DEPARTMENT OF TRANSPORTATION

Federal Aviation Administration

[Summary Notice No. PE-2001-22]

Petitions for Exemption; Summary of Petitions Received; Dispositions of Petitions Issued

AGENCY: Federal Aviation Administration (FAA), DOT.

ACTION: Notice of petition for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before April 11, 2001.

ADDRESSES: Send comments on any petition in triplicate to: Federal Aviation Administration, Office of the Chief Counsel, Attn: Rule Docket (AGC-200), Petition Docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to §§ 11.85 and 11.91.

Issued in Washington, DC, on March 16, 2001.
Donald P. Byrne,
Assistant Chief Counsel for Regulations.

Petition for Exemption

Docket No.: 29969.

Petitioner: National Agricultural Aviation Association.

Section of the 14 CFR Affected: 14 CFR 91.313(e).

Description of Relief Sought/Disposition: To permit NAAA members to operate restricted category aircraft over densely populated areas, in congested airways, or near busy airports where passenger transport operations are conducted.

Disposition of Petitions

Docket No.: 23753.

Petitioner: Saudi Arabian Airlines Corporation.

Section of the 14 CFR Affected: 14 CFR 63.2.

Description of Relief Sought/Disposition: To permit Saudia pilots to be examined for and issued U.S. airmen certificates and ratings required to operate its fleet as if Saudia were a certificated U.S. air carrier. Grant, 01/26/2001, Exemption No. 3923J.

Docket No.: 29512.

Petitioner: Ishikawajima-Harima Heavy Industries Co.

Section of the 14 CFR Affected: 14 CFR 145.47(b).

Description of Relief Sought/Disposition: To permit IHI to use the calibration standards of the National Research Laboratory of Metrology (NRLM), the Electrotechnical Laboratory (ETL), and the National Institute of Materials and Chemical Research (NIMC) in lieu of the calibration standards of the National Institute of Standards (NIST) to test its inspection and test equipment. Grant, 01/19/2001, Exemption No. 7424.

Docket No.: 25552.

Petitioner: State of Alaska.

Section of the 14 CFR Affected: 14 CFR 45.29(h).

Description of Relief Sought/Disposition: To permit persons operating aircraft within, to, or from the State of Alaska to fly their aircraft across the inner boundaries of the Alaskan Air Defense Identification Zone or the Defense Early Warning Identification Zone without displaying temporary or permanent registration marks at least 12-inches high. Grant, 01/22/2001, Exemption No. 5630D.

Docket No.: 29372.

Petitioner: Helicopter Consultants, Inc, dba Aircraft Commercial Enterprise, Inc.

Section of the 14 CFR Affected: 14 CFR 135.163 and 135.181.

Description of Relief Sought/Disposition: To permit ACE to conduct passenger-carrying operations in single-engine airplanes in certain, limited instrument flight rules (IFR) conditions as were permitted previously by 135.103 and 135.181 before the adoption of Amendment No. 135-70. The proposed exemption would also allow ACE to conduct such operations without equipping its airplanes with (1) two independent electrical power-generating sources, or a standby battery or alternate source of electrical power; and (2) a redundant energy system for gyroscopic instruments. Denial, 01/14/2001, Exemption No. 7415.

Docket No.: 29791.

Petitioner: United Parcel Service, Inc.

Section of the 14 CFR Affected: 14 CFR 61.77(a).

Description of Relief Sought/Disposition: To permit UPS to obtain special purpose pilot authorizations for certain holders of foreign pilot certificates to ferry between non-U.S. Airports U.S.—registered Boeing 727 (B-727) airplanes listed on UPS's Operations Specifications. Denial, 01/11/2001, Exemption No. 7416.

Docket No.: 29990.

Petitioner: FlightSafety Boeing Training International.

Section of the 14 CFR Affected: 14 CFR 142.53(b).

Description of Relief Sought/Disposition: To permit FlightSafety Boeing to designate certain simulator instructors without those instructors completing actual aircraft flight time, a line observation with an approved line-oriented flight training program, or an approved in-flight observation training course. The designated instructors would be those who conduct training exclusively under 14 CFR part 61 within the scope of part 142 in a flight simulator that the Administrator has approved for all training and testing for the airline transport pilot (ATP) certification test, aircraft type rating test, or both. Denial, 01/11/2001, Exemption No. 7418.

Docket No.: 30132.

Petitioner: Mr. Brian Daniel.

Section of the 14 CFR Affected: 14 CFR 61.109(d)(2)(i).

Description of Relief Sought/Disposition: To permit Mr. Daniel to apply for a private pilot certificate with rotorcraft category and gyroplane class rating without meeting the 50-nautical-mile night cross-country flight training requirement. Grant, 01/11/2001, Exemption No. 7417.

[FR Doc. 01-7066 Filed 3-21-01; 8:45 am]

BILLING CODE 4910-13-M